DEPARTMENT OF THE INTERIOR

Fish and Wildlife Service

Notice of Availability of the Approved Recovery Plan for the Pitcher's Thistle (Cirsium pitcheri)

AGENCY: Fish and Wildlife Service, Interior.

ACTION: Notice of document availability.

SUMMARY: We, the U.S. Fish and Wildlife Service (Service) announce the availability of the approved recovery plan for the Pitcher's thistle (Cirsium pitcheri), a species that is federally listed as threatened under the Endangered Species Act of 1973 (Act), as amended (16 U.S.C. 1531 et seq.). This species occurs on the shoreline dunes of Lakes Michigan, Huron and Superior. Actions needed for recovery of the Pitcher's thistle include managing and protecting its current highest quality and extirpated historic sites.

ADDRESSES: U.S. Fish and Wildlife Service's approved recovery plans are available from:

1. Fish and Wildlife Reference Service, 5430 Grosvenor Lane, Suite 110, Bethesda, Maryland 20814 (the fee for the plan varies depending on the number of pages of the plan).

2. Field Supervisor, U.S. Fish and Wildlife Service, East Lansing Ecological Services Field Office, 2651 Coolidge Road, East Lansing, Michigan 48823

3. The World Wide Web at http://endangered.fws.gov/RECOVERY/RECPLANS/Index.htm

FOR FURTHER INFORMATION CONTACT: Mr. Mike DeCapita, East Lansing Ecological Services Field Office (see ADDRESSES section No. 2 above); telephone (517) 351-2555. The Fish and Wildlife Reference Service may be reached at (301) 492-6403 or (800) 582-3421. TTY users may contact Mr. DeCapita and the Fish and Wildlife Reference Service through the Federal Relay Service at (800) 877-8339.

SUPPLEMENTARY INFORMATION:

Background

Recovery of endangered or threatened animals or plants is a primary goal of the Service's endangered species program. A species is considered recovered when the species' ecosystem is restored and/or threats to the species are removed so that self-sustaining and self-regulating populations of the species can be supported as persistent members of native biotic communities. Recovery plans describe actions considered necessary for the conservation of the species, establish criteria for reclassification to threatened status or delisting listed species, and estimate time and cost for implementing the measures needed for recovery.

The Endangered Species Act of 1973, as amended, requires that recovery plans be developed for listed species unless such a plan would not promote the conservation of a particular species. Section 4(f) of the Act, as amended in 1988, requires that during recovery plan development, we provide public notice and an opportunity for public review and comment. Information presented during the comment period has been considered in the preparation of the approved recovery plan, and is summarized in an appendix to the recovery plan. We will forward substantive comments regarding recovery plan implementation to appropriate Federal Agencies and other entities so that they can take these comments into account during the course of implementing recovery actions.

The Pitcher's thistle, a rare, distinctive, perennial plant, was listed as a threatened species under the Act in July 1988 (53 FR 27137). It is endemic to the shoreline dune systems of Lakes Michigan, Huron and Superior. The species ranges from the north shore of Lake Superior south to Indiana, and formerly occurred in northern Illinois. Pitcher's thistle occurs only on dynamic open sand dunes subject to natural processes that maintain habitat in early successional stages. It is currently threatened by human recreational activities and development that obliterate habitat, stabilize sand dune areas, and directly harm individual plants. Introduction of biological agents to control noxious weeds may also threaten this plant.

The objective of this plan is to provide a framework for the recovery of the Pitcher's thistle so that protection by the Act is no longer necessary. As recovery criteria are met, the status of the species will be reviewed and it will be considered for removal from the List of Endangered and Threatened Wildlife and Plants (50 CFR part 17). The Pitcher's thistle will be considered for delisting when: (1) The essential habitat associated with a total of 115 priority occurrences representing each biogeographic region and dune type is protected and managed under a management plan for each management unit; (2) regular field surveys to verify occurrences and record new occurrences have been established; (3) landowner contacts have been initiated and protection has been investigated for the remaining (rank<BC) public and private occurrences; (4) monitoring of known sites shows a stable or increasing trend toward recovery, and that protective plans are being implemented; (5) restoration of two occurrences from among historical sites where sufficient habitat remains in Illinois, Indiana, Wisconsin, and southern Lower Michigan has been completed; and (6) research necessary to protect, manage and restore Pitcher's thistle has been conducted.

Authority: The authority for this action is section 4(f) of the Endangered Species Act, 16 U.S.C. 1533 (f).

Dated: September 19, 2002.
Lynn M. Lewis,
Acting Assistant Regional Director, Ecological Services, Region 3, Fort Snelling, Minnesota.

[FR Doc. 02-25955 Filed 10-10-02; 8:45 am]

BILLING CODE 4310-55-P